DEPARTMENT OF ENERGY

Federal Energy Regulatory Commission

Combined Notice of Filings

Take notice that the Commission has received the following Natural Gas Pipeline Rate and Refund Report filings:

Filings Instituting Proceedings

Docket Numbers: PR15-35-000.

Applicants: Southcross Alabama Pipeline LLC.

Description: Submits tariff filing per 284.123(b)(2) + (g): Southcross Alabama Section 311 Rate Petition (5-1-15) to be effective 5/1/2015; Filing Type: 1310.

Filed Date: 5/1/15.

Accession Number: 20150501-5283.

Comments Due: 5 p.m. ET 5/11/15

284.123(g) Protests Due: 5 p.m. ET 6/19/15.

Docket Numbers: PR14-36-000.

Applicants: Mid Louisiana Gas Transmission, LLC.

Description: Submits tariff filing per 284.224: Application for a Blanket Certificate to be effective 9/1/2015; Filing Type: 1340.

Filed Date: 5/6/15.

Accession Number: 20150506-5119.

Comments/Protests Due: 5 p.m. ET 5/27/15.

Docket Numbers: RP15-974-000.

Applicants: Midwestern Gas Transmission Company.

Description: § 4(d) rate filing per 154.204: Revisions to Pro Forma Service Agreements to be effective 6/8/2015.

Filed Date: 5/7/15.

Accession Number: 20150507-5146.

Comments Due: 5 p.m. ET 5/19/15.

Docket Numbers: RP15-975-000.

Applicants: Transcontinental Gas Pipe Line Company.

Description: § 4(d) rate filing per 154.204: Rockaway Delivery Lateral Initial Rate Filing to be effective 5/14/2015.

Filed Date: 5/7/15.

Accession Number: 20150507-5195.

Comments Due: 5 p.m. ET 5/19/15.

Docket Numbers: RP15-976-000.

Applicants: Texas Eastern Transmission, LP.

Description: § 4(d) rate filing per 154.204: Duke Energy Indiana, Inc 712322—Negotiated Rate Agreement to be effective 6/1/2015.

Filed Date: 5/7/15.

Accession Number: 20150507-5216.

Comments Due: 5 p.m. ET 5/19/15.

Docket Numbers: RP15-977-000.

Applicants: Freebird Gas Storage, L.L.C.

Description: Compliance filing per 154.203: Freebird Gas Storage, L.L.C., FERC Order 801 (Correction to Filing ID 80) to be effective 6/4/2015.

Filed Date: 5/7/15.

Accession Number: 20150507-5218.

Comments Due: 5 p.m. ET 5/19/15.

Docket Numbers: RP15-978-000.

Applicants: Equitrans, L.P.

Description: § 4(d) rate filing per 154.204: Equitrans' Tariff Clean-Up Filing—May 2015 to be effective 6/8/2015.

Filed Date: 5/8/15.

Accession Number: 20150508-5063.

Comments Due: 5 p.m. ET 5/20/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP15-670-002.

Applicants: Enable Gas Transmission, LLC.

Description: Compliance filing per 154.203: Fuel Tracker Compliance Filing to be effective 5/1/2015.

Filed Date: 5/8/15.

Accession Number: 20150508-5170.

Comments Due: 5 p.m. ET 5/20/15.

Any person desiring to protest in any of the above proceedings must file in accordance with Rule 211 of the Commission's Regulations (18 CFR 385.211) on or before 5:00 p.m. Eastern time on the specified comment date.

The filings are accessible in the Commission's eLibrary system by clicking on the links or querying the docket number

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2015.
Nathaniel J. Davis, Sr.,
Deputy Secretary.

[FR Doc. 2015-12207 Filed 5-19-15; 8:45 am]

BILLING CODE 6717-01-P